DEPARTMENT OF AGRICULTURE

Rural Business-Cooperative Service

Rural Housing Service

Rural Utilities Service

Rural Development Cooperative Agreement Program; Correction.

AGENCY: Rural Business-Cooperative Service, Rural Housing Service, and Rural Utilities Service, USDA.

ACTION: Notice; correction.

SUMMARY: This document corrects one item in the initial notice that published in the Federal Register on August 17, 2018, entitled “Rural Development Cooperative Agreement Program.” This correction revises the maximum available points for one scoring criteria.

DATES: Effective September 6, 2018.

FOR FURTHER INFORMATION CONTACT: Christine Sorensen, Regional Coordinator, christine.sorensen@wdc.usda.gov, (202) 568-9832.

SUPPLEMENTARY INFORMATION: In FR Doc. 2018-17765 appearing on page 41046 in the Federal Register of August 16, 2018, make the following correction:

Correction

On page 41052 in the second column, third paragraph, section d. reads “The applicant will demonstrate how their proposal will utilize partnerships outside of RD . . . (10 points),” replace with “The applicant will demonstrate how their proposal will utilize partnerships outside of RD . . . (5 points).”

Dated: August 30, 2018.
Joby Young,
Chief of Staff, USDA Rural Development.

[FR Doc. 2018-19357 Filed 9-5-18; 8:45 am]

BILLING CODE 3410-XY-P